GENERAL SERVICES ADMINISTRATION

[Notice-PBS-2023-06; Docket No. 2023-0002; Sequence No. 26]

Notice of Availability for a Draft Supplemental Environmental Impact Statement and Floodplain Assessment and Statement of Findings for the International Falls Land Port of Entry Modernization and Expansion Project in International Falls, Minnesota

AGENCY: Public Buildings Service (PBS), General Services Administration (GSA).

ACTION: Notice of Availability (NOA); Announcement of public hearing.

SUMMARY: This notice announces the availability of the Draft Supplemental Environmental Impact Statement (SEIS), which examines potential environmental impacts from the modernization and expansion of the International Falls Land Port of Entry (LPOE) in International Falls, Minnesota. The existing International Falls LPOE is owned and managed by GSA and is operated by the U.S. Department of Homeland Security's Customs and Border Protection (CBP). The Draft SEIS describes the purpose and need for the project; alternatives considered; the existing environment that could be affected; the potential impacts resulting from each of the alternatives; and proposed best management practices and/or mitigation measures. The Draft SEIS also includes the Draft Finding of No Practicable Alternative (FONPA), which provides a floodplain assessment and statement of findings as a result of construction in a floodplain at the International Falls LPOE.

DATES:

Public Comment Period—Interested parties are invited to provide comments on the Draft SEIS and Floodplain Assessment and Statement of Findings. The Public Comment Period begins with publication of this NOA in the Federal Register and will last for 45 days until December 11, 2023. Written comments must be received by the last day of the Public Comment Period (see ADDRESSES section of this NOA on how to submit comments). After the comment period, GSA will prepare the Final EIS.

Hearing Date—GSA will host a hybrid virtual and in-person public hearing on Wednesday, November 8, 2023, from 6 to 8 p.m., Central Standard Time (CST), where interested parties are invited to join and provide verbal or written comments on the Draft SEIS and Floodplain Assessment and Statement of Findings. The hearing will be primarily virtual in nature, although members of the public may attend at the Koochiching County Court Administration Building to view an online broadcast of the hearing in person (see ADDRESSES section for location address). Refer to the VIRTUAL PUBLIC HEARING INFORMATION section of this NOA on how to access the online public hearing.

ADDRESSES:

Hearing Location—The public may attend the virtual hearing at the Koochiching County Court Administration building at 715 4th Street, 3rd Floor, International Falls, MN, 56649, to view the online presentation in-person. A GSA staff member will be available (in-person and virtually) to assist the public in providing public comments via the virtual platform.

Public Comments

In addition to oral comments and written comments provided at the public hearing, members of the public may also submit comments by one of the following methods. All oral and written comments will be considered equally and will be part of the public record.

• Email: michael.gonczar@gsa.gov. Please include `International Falls LPOE SEIS' in the subject line of the message.

• Mail: ATTN: Michael Gonczar, International Falls LPOE SEIS; U.S. General Services Administration, Region 5; 230 S Dearborn Street, Suite 3600, Chicago, IL 60604.

Virtual Public Hearing Information

The hybrid virtual public hearing will begin with presentations on the NEPA and National Historic Preservation Act (NHPA) processes, which are being executed concurrently for this project, as well as an overview of the proposed project, and then will continue with the findings of the Draft SEIS. A copy of the presentation slideshow will be made available prior to the hearing at: https://www.gsa.gov/real-estate/gsa-properties/land-ports-of-entry-and-the-bil/bipartisan-infrastructure-law-construction-project/minnesota. Following the presentation, there will be a moderated session during which members of the public can provide oral comments. Members participating virtually or attending in-person will be able to comment. Commenters will be allowed 3 minutes to provide comments. Comments will be recorded. Attendees can also provide written comments at the public hearing should they not wish to speak.

Members of the public may join the Draft SEIS virtual public hearing by entering the Meeting ID: 847 2762 2357, using any of the below methods, or by using the following link https://us06web.zoom.us/j/84727622357. Note that the hearing is best viewed through the Zoom app. Attendees are encouraged to download the Zoom app at the Zoom website (https://zoom.us) on their personal computer or on their mobile device and test their connection prior to the hearing to ensure best results.

• By personal computer (via the Zoom app)—Install the Zoom app at the Zoom website (https://zoom.us) and launch the Zoom app. Click `Join a Meeting' and enter the above Meeting ID. Follow the prompts to enter your name and email address to access the hearing; or

• By personal computer (via the Zoom website)—Using your computer's browser, go to the Zoom website at http://zoom.us/join and enter the above Meeting ID. Click `Join from your browser' and follow the prompts to enter your name; or

• By mobile device (via the Zoom mobile app)—Install and launch the Zoom app. Enter the above Meeting ID.

Whether joining through the Zoom app or web browser, attendees should follow the prompts to connect their computer audio. Attendees are encouraged to connect through the `Computer Audio' tab and click `Join Audio by Computer' under the `Join Audio' button on the bottom of their screen. Users who do not have a computer microphone and wish to provide a comment during the hearing may connect by following the prompts under the `Phone Call' tab under the `Join Audio' button.

For members of the public who do not have access to a personal computer, they may join the hearing audio by dialing the following number: 1-305-224-1968. When prompted, enter the following information: Meeting ID—847 2762 2357, followed by the pound (#) key; then press pound (#) again when prompted for a participant ID. Note, dialing in to the hearing is only necessary if you are not accessing the hearing through a personal computer or mobile app, or if you would like to provide oral comments during the hearing but do not have a computer microphone.

The public hearing will be recorded, and all comments provided will become part of the formal record.

FOR FURTHER INFORMATION CONTACT: Michael Gonczar, NEPA Program Manager, GSA, 312-810-2326, michael.gonczar@gsa.gov.

SUPPLEMENTARY INFORMATION:

Public Comment Period

The views and comments of the public are necessary in helping GSA in its decision-making process with impacts to environmental, cultural, and economic impacts. The public comment process will be accomplished through a hybrid virtual and in-person public hearing, direct mail correspondence to appropriate federal, state, and local agencies, and to private organizations and citizens who have previously expressed, or are known to have, an interest in the project. The Draft SEIS has considered previous input provided during the scoping period.

Background:

The existing 1.6-acre LPOE is located on the south bank of the Rainy River and serves as the port of entry to people and vehicles crossing the International Bridge that connects International Falls, Minnesota to the town of Fort Frances, Ontario, Canada. The International Falls Land Port of Entry Improvements Study Final EIS, released in 2011, assessed the potential environmental impacts associated with the proposed action of replacing the undersized International Falls LPOE with a new LPOE facility “to improve safety, security, and functionality.” A total of ten build alternatives were considered, and a preferred action alternative was identified. This alternative would consist of demolishing the existing building, constructing new facilities at the existing LPOE, and expanding the LPOE to meet the required space standards and increased security requirements of the Federal Inspection Services. This alternative would move the majority of the LPOE improvements and operations to an approximately 20-acre site southeast of the existing site between 4th Street and Rainy River. GSA signed and released a Record of Decision in January 2012 that identified a preferred alternative as it best satisfied the purpose and needs of the project with the least overall adverse impacts to the environment. The ROD stated that the preferred alternative would have less-than-significant impacts on the natural and social environment of the study area and International Falls, including minor changes or impacts to surface water, surface water runoff, traffic, increased lighting, and hazardous substances.

Since 2011, GSA has identified the following changes to the project, which differ from the preferred alternative described in the 2011 EIS:

• There have been proposed changes in tenants and use of the space. U.S. Food and Drug Administration (FDA) no longer requires space at the LPOE; however, the U.S. Department of Agriculture/Animal Plant Health Inspection Services/-Plant Protection and Quarantine (USDA/APHIS-PPQ), and U.S. Fish and Wildlife Service (USFWS) will need space and facilities at the LPOE.

• The Packaging Corporation of America (PCA) has acquired Boise, Inc. and has a different timber unloading operation occurring adjacent to the proposed acquisition parcel, which will require modifications to the original site plan at the LPOE and offsite on PCA lands. This includes PCA's proposed trailer parking lot that was shifted further east (beyond First Creek) and includes a paved 90-trailer parking lot for PCA, which will modify traffic patterns for the LPOE.

• A section of First Creek between Route 11 and the Rainy River that was previously contained in a culvert was identified following the 2011 EIS. The culvert has been removed and is now daylighted, requiring impacts analysis.

• There has been an increase in the proposed usable square feet (USF) for overall building space needed from 42,282 to 80,611, based on the addition of a maintenance building and expansion in the sizes of all other buildings per updated agency requirements.

• Stormwater management would be redesigned in the 300-foot section of First Creek due to two new areas of pavement crossing the creek.

• The Resolute Paper Mill in Fort Frances, Ontario has since closed and has decreased rail traffic.

• New renewable energy technologies are being considered for implementation at the expanded and modernized LPOE, including solar, geothermal, and river water cooling geothermal technologies.

GSA has prepared a Draft SEIS to assess the potential impacts of these updates, which were not assessed in the 2011 EIS.

Alternatives Under Consideration:

The Proposed Action would comprise of modernization and expansion of existing International Falls LPOE facilities as previously considered in the 2011 EIS, but to consider the above project changes. GSA also considered the No Action Alternative, which assumes that GSA would not expand or modernize the International Falls LPOE.

The purpose of the Proposed Action is for GSA to support CBP's mission by bringing the International Falls LPOE operations in line with current land port design standards and operational requirements of CBP while addressing existing deficiencies identified with the ongoing port operations. Generally, the deficiencies described in the 2011 EIS remain at the LPOE. The deficiencies fall into two broad categories: deficiencies in the overall site layout and substandard building conditions. Therefore, in order to bring the International Falls LPOE operations in line with CBP's design standards and operational requirements, the Proposed Action is needed to (1) improve the capacity and functionality of the International Falls LPOE to meet future demand, while maintaining the capability to meet border security initiatives; (2) address spatial and layout constraints that lead to traffic congestion and safety issues for the employees and users of the LPOE; and (3) provide adequate space and facilities for the federal agencies to accomplish their missions.

The Draft SEIS addresses the potential environmental impacts of the proposed alternatives on environmental resources including geology and soils, water resources, biological resources, air quality, noise, transportation and traffic, land use and visual resources, infrastructure and utilities, socioeconomics, cultural resources, human health and safety, and environmental justice. Based on the analysis presented in the Draft SEIS, impacts to all resource areas would be less-than-significant (i.e., negligible, minor, or moderate) adverse or beneficial. Impact reduction measures are presented in the Draft SEIS to reduce potential adverse effects.

GSA is currently undergoing formal consultation with the State Historic Preservation Officer (SHPO) and consulting parties to follow coordination procedures as required under Section 106 of the NHPA to determine impacts to historic properties. Mitigation measures may be determined in consultation between GSA, SHPO, and applicable consulting parties.

Under the Endangered Species Act (ESA), GSA coordinated with USFWS per Section 7 requirements to determine effects to federally protected species. There would be no adverse effects to federally threatened or endangered species. Correspondence with USFWS and findings are incorporated in the Draft SEIS.

The Proposed Action would take place within the 1-percent-annual-chance floodplain (also referred to as the base flood or 100-year flood) and 0.2-percent-annual-chance floodplain (also referred to as the 500-year flood) at the International Falls LPOE. In compliance with Executive Order 11988 (Floodplain Management), GSA prepared a Draft FONPA addressing potential impacts on floodplains, which is included in the Draft SEIS for public review and comment. As described in the Draft SEIS, GSA would follow federal, state, and local regulatory compliance requirements and incorporate design standards at the International Falls LPOE to minimize impacts to floodplains.

William Renner,
Director, Facilities Management and Services Programs Division, Great Lakes Region 5, U.S. General Services Administration.

[FR Doc. 2023-23490 Filed 10-26-23; 8:45 am]

BILLING CODE 6820-CF-P